DEPARTMENT OF COMMERCE

National Oceanic and Atmospheric Administration

[RTID 0648-XA425]

North Pacific Fishery Management Council; Public Meeting

AGENCY: National Marine Fisheries Service (NMFS), National Oceanic and Atmospheric Administration (NOAA), Commerce.

ACTION: Notice of public meeting.

SUMMARY: The North Pacific Fishery Management Council (Council) Crab Plan Team will meet September 14, 2020 through September 17, 2020.

DATES: The meeting will be held on Monday, September 14, 2020 through Wednesday September 16, 2020 from 8 a.m. to 4 p.m., and from 8 a.m. to 11 a.m. on Thursday, September 17, 2020 Alaska Time.

ADDRESSES: The meeting will be a web conference. Join online through the link at https://npfmc.adobeconnect.com/cptsept2020/.

Council address: North Pacific Fishery Management Council, 1007 W 3rd Ave., Anchorage, AK 99501-2252; telephone: (907) 271-2809. Instructions for attending the meeting via video conference are given under SUPPLEMENTARY INFORMATION, below.

FOR FURTHER INFORMATION CONTACT: Jim Armstrong, Council staff; phone: (907) 271-2809; email: james.armstrong@noaa.gov. For technical support please contact our admin Council staff, email: npfmc.admin@noaa.gov.

SUPPLEMENTARY INFORMATION:

Agenda

Monday, September 14, 2020 through Thursday, September 17, 2020

The agenda will include: (a) Final 2020 stock assessments for Eastern Bering Sea snow crab, Bristol Bay red king crab, Eastern Bering Sea Tanner crab, Pribilof Islands red king crab, and Saint Matthew Island blue king crab; (b) stock assessment modeling scenarios for Norton Sound red king crab; (c) other discussions including survey contingency plans for 2021, catch and bycatch updates, a discussion about crab stock boundaries, the crab ecosystem status report, the ecosystem and socioeconomic profiles for Bristol Bay red king crab and Saint Matthew blue king crab, prohibited species catch of crab in groundfish fisheries, and (d) planning for future meetings. The agenda is subject to change, and the latest version will be posted at https://meetings.npfmc.org/Meeting/Details/1623 prior to the meeting, along with meeting materials.

Connection Information

You can attend the meeting online using a computer, tablet, or smart phone; or by phone only. Connection information will be posted online at: https://meetings.npfmc.org/Meeting/Details/1623.

Public Comment

Public comment letters will be accepted and should be submitted electronically to https://meetings.npfmc.org/Meeting/Details/1623.

Special Accommodations

The meeting is accessible to people with disabilities. Requests for sign language interpretation or other auxiliary aids should be directed to Shannon Gleason at (907) 903-3107 at least 7 working days prior to the meeting date.

Authority: 16 U.S.C. 1801 et seq.

Dated: August 25, 2020.
Tracey L. Thompson,
Acting Deputy Director, Office of Sustainable Fisheries, National Marine Fisheries Service.

[FR Doc. 2020-18968 Filed 8-27-20; 8:45 am]

BILLING CODE 3510-22-P